DEPARTMENT OF COMMERCE

National Oceanic and Atmospheric Administration

RIN 0648-XA641

Marine Mammals; File No. 16553

AGENCY: National Marine Fisheries Service (NMFS), National Oceanic and Atmospheric Administration (NOAA), Commerce.

ACTION: Notice; receipt of application.

SUMMARY: Notice is hereby given that Brent Stewart, Ph.D., J.D., Hubbs SeaWorld Research Institute, 2595 Ingraham Street, San Diego, CA, 92109, has applied in due form for a permit to conduct research on California sea lions (Zalophus californianus), northern elephant seals (Mirounga angustirostris), and harbor seals (Phoca vitulina).

DATES: Written, telefaxed, or e-mail comments must be received on or before August 17, 2011.

ADDRESSES: The application and related documents are available for review by selecting “Records Open for Public Comment” from the Features box on the Applications and Permits for Protected Species (APPS) home page, https://apps.nmfs.noaa.gov, and then selecting File No. 16553 from the list of available applications.

These documents are also available upon written request or by appointment in the following offices:

Permits, Conservation and Education Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Carrie Hubard or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a five-year permit to study three species of pinnipeds in California. The objectives of the research are to continue a long term study on the comparative ecology, demography, community ecology, foraging patterns, pathology and phenology of the target species and to further characterize the resources and habitats used by each species. The proposed research would: (1) Collect basic information on the biology of these key apex marine carnivores, (2) provide insight into the dynamic biotic and abiotic variables (including anthropogenic factors) that might affect their abundance and distribution, and (3) investigate the specific mechanisms that might account for variation in vital rates and population size and trends. California sea lions, northern elephant seals, and harbor seals would be captured and samples at several sites: San Nicolas Island, San Miguel Island, Santa Rosa Island, Santa Cruz Island, Piedras Blancas, Cape San Martin, and Gorda. Some animals would only receive a flipper tag or a dye mark. Other animals would be physically or chemically restrained; measured and weighed; have a variety of samples taken, including: Blood, skin, blubber, and mucus membrane swabs; and have tracking or data recording instruments attached. For proposed take numbers by species and location and details on sampling methodologies, see the application. The applicant has requested authorization for the unintentional research related mortality of up to four animals of each species annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 11, 2011.
P. Michael Payne,
Chief, Permits, Conservation and Education Division, Office of Protected Resources, National Marine Fisheries Service.

[FR Doc. 2011-21001 Filed 8-16-11; 8:45 am]

BILLING CODE 3510-22-P